FEDERAL COMMUNICATIONS COMMISSION

[DA 04-2454]

Rescheduling of the Third Meeting of the Advisory Committee for the 2007 World Radiocommunication Conference (WRC-07 Advisory Committee)

AGENCY: Federal Communications Commission.

ACTION: Notice.

SUMMARY: In accordance with the Federal Advisory Committee Act, this notice advises interested persons that the third meeting of the WRC-07 Advisory Committee originally scheduled for September 27, 2004 (Federal Register / Vol. 69, No. 128 / Tuesday, July 6, 2004 / Notices) has been rescheduled and will now be held on November 10, 2004, at the Federal Communications Commission. The purpose of the meeting is to continue preparations for the 2007 World Radiocommunication Conference. The Advisory Committee will consider any preliminary views and/or proposals introduced by the Advisory Committee's Informal Working Groups.

DATES: November 10, 2004; 10 a.m.-12 noon.

ADDRESSES: Federal Communications Commission, 445 12th Street, SW., Room TW-C305, Washington DC 20554.

FOR FURTHER INFORMATION CONTACT: Alexander Roytblat, FCC International Bureau, Strategic Analysis and Negotiations Division, at (202) 418-7501.

SUPPLEMENTARY INFORMATION: This is a summary of the Commission's Public Notice, IB Docket No. 04-286, DA 04-2454, released August 4, 2004. The Federal Communications Commission (FCC) established the WRC-07 Advisory Committee to provide advice, technical support and recommendations relating to the preparation of United States proposals and positions for the 2007 World Radiocommunication Conference (WRC-07).

In accordance with the Federal Advisory Committee Act, Pub. L. 92-463, as amended, this notice advises interested persons of the third meeting of the WRC-07 Advisory Committee. The WRC-07 Advisory Committee has an open membership. All interested parties are invited to participate in the Advisory Committee and to attend its meetings. The proposed agenda for the third meeting is as follows:

Agenda—Third Meeting of the WRC-07 Advisory Committee; Federal Communications Commission, 445 12th Street, SW., Room TW-C305, Washington, DC 20554

November 10, 2004; 10 a.m.-12 noon

1. Opening Remarks

2. Approval of Agenda

3. Approval of the Minutes of the Second Meeting

4. Reports on Recent WRC-07 Preparatory Meetings

5. NTIA Draft Preliminary Views and Proposals

6. Informal Working Group Reports and Documents relating to:

a. Consensus Views and Issues Papers

b. Draft Proposals

7. Future meetings

8. Other Business

Federal Communications Commission.
Don Abelson,
Chief, International Bureau.

[FR Doc. 04-18260 Filed 8-9-04; 8:45 am]

BILLING CODE 6712-01-P